LEGAL SERVICES CORPORATION

Sunshine Act Meeting

DATES: The Legal Services Corporation's (LSC) Board of Directors and its several committees will meet July 13-14, 2022. On Wednesday, July 13, the first meeting will begin at 10:30 a.m. Central Daylight Time (CDT), with the next meeting commencing promptly upon adjournment of the immediately preceding meeting. On Thursday, July 14, the first meeting will again begin at 8:30 a.m., CDT, with the next meeting commencing promptly upon adjournment of the immediately preceding meeting.

ADDRESSES: Public Notice of Virtual Meeting.

LSC will conduct the July 13-14, 2022 meetings in-person and via Zoom.

Public Observation: Unless otherwise noted herein, the Board and all committee meetings will be open to public observation via Zoom. Members of the public who wish to participate remotely in the public proceedings may do so by following the directions provided below.

Directions for Open Sessions

Wednesday, July 13, 2022

• To join the Zoom meeting by computer, please use this link.

• https://lsc-gov.zoom.us/j/88115224073?pwd=Yy83UmQ0TmlndjlNU0x6V0JSWTdsUT09

○ Meeting ID: 881 1522 4073

○ Passcode: 71322

• To join the Zoom meeting with one tap from your mobile phone, please click dial:

○ +16468769923,,88115224073# US (New York)

○ +13017158592,,88115224073# US (Washington DC)

• To join the Zoom meeting by telephone, please dial one of the following numbers:

○ +1 301 715 8592 US (Washington DC)

○ +1 646 876 9923 US (New York)

○ +1 312 626 6799 US (Chicago)

○ +1 669 900 6833 US (San Jose)

○ +1 253 215 8782 US (Tacoma)

○ +1 346 248 7799 US (Houston)

○ +1 408 638 0968 US (San Jose)

○ Meeting ID: 881 1522 4073

○ Passcode: 71322

○ If calling from outside the U.S., find your local number here: https://lsc-gov.zoom.us/u/acCVpRj1FD.

Thursday, July 14, 2022

• To join the Zoom meeting by computer, please use this link.

• https://lsc-gov.zoom.us/j/89560898298?pwd=b2NWUkF5TVlrajNHK25GSmNoTGo1Zz09

○ Meeting ID: 895 6089 8298

○ Passcode: 71422

• To join the Zoom meeting with one tap from your mobile phone, please click dial:

○ +13017158592,,89560898298# US (Washington DC)

○ +13126266799,,89560898298# US (Chicago)

• To join the Zoom meeting by telephone, please dial one of the following numbers:

○ +1 301 715 8592 US (Washington DC)

○ +1 312 626 6799 US (Chicago)

○ +1 646 876 9923 US (New York)

○ +1 408 638 0968 US (San Jose)

○ +1 669 900 6833 US (San Jose)

○ +1 253 215 8782 US (Tacoma)

○ +1 346 248 7799 US (Houston)

○ Meeting ID: 895 6089 8298

○ Passcode: 71422

○ If calling from outside the U.S., find your local number here: https://lsc-gov.zoom.us/u/acCVpRj1FD.

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Audit Committee—Open, except that, upon a vote of the Board of Directors, the meeting may be closed to the public to receive a briefing on internal controls that are designed to minimize the risk of fraud, theft, corruption, or misuse of funds.

Institutional Advancement Committee—Open, except that, upon a vote of the Board of Directors, the meeting may be closed to the public to receive a briefing on development activities, receive a briefing on 50th Anniversary fundraising activities and to discuss prospective new members of the Leaders Council and Emerging Leaders Council.

Board of Directors—Open, except that, upon a vote of the Board of Directors, a portion of the meeting may be closed to the public for briefings by management and LSC's Inspector General, and to consider and act on the General Counsel's report on potential and pending litigation involving LSC, and as well as a list of prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed session of the Audit, Board, and Institutional Advancement Committee meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule
| Start time (all CDT)
Wednesday, July 13, 2022:
1. Institutional Advancement Committee (IAC) Meeting | 10:30 a.m. CDT.
2. Audit Committee Meeting
3. Delivery of Legal Services Commmittee Meeting
Thursday, July 14, 2022:
1. Communications Subcommittee of the IAC Meeting | 8:30 a.m. CDT.
2. Finance Commtitee Meeting
3. Open Board Meeting
4. Closed Board Meeting

Wednesday, July 13, 2022

Institutional Advancement Committee (IAC) Meeting

Open Session

1. Approval of Agenda

2. Approval of Minutes of the Institutional Advancement Committee's Open Session Meeting on April 5, 2022

3. Update on Leaders Council and Emerging Leaders Council

• John G. Levi, Chairman of the Board, Legal Services Corporation

4. Development Report

• Nadia Elguindy, Director of Institutional Advancement, Legal Services Corporation

5. Update on the Eviction Study and Midwest Capstone Disaster Conference

• Lynn Jennings, Vice President for Grants Management, Legal Services Corporation

6. Update on Rural Justice Task Force

• Jessica Wechter, Special Assistant to the President, Legal Services Corporation

7. Public Comment

8. Consider and Act on Other Business

9. Consider and Act on Motion to Adjourn the Open Session Meeting and Proceed to a Closed Session

Closed Session

1. Approval of Minutes of the Institutional Advancement Committee's Closed Session Meeting on April 5, 2022

2. Development Activities Report

• Nadia Elguindy, Director of Institutional Advancement, Legal Services Corporation

3. Update on LSC's 50th Anniversary Fundraising Campaign

• Nadia Elguindy, Director of Institutional Advancement, Legal Services Corporation

• Leo Latz, Latz & Company

4. Consider and Act on Motion to Approve Leaders Council and Emerging Leaders Council Invitees

5. Consider and Act on Other Business

6. Consider and Act on Motion to Adjourn the Meeting

Audit Committee Meeting

Open Session

1. Approval of Agenda

2. Approval of Minutes of Committee's Open Session Meeting on April 4, 2022

3. Approval of the Minutes of the Combined Audit and Finance Committee's Open Session Meeting on April 4, 2022

4. Briefing by the Office of Inspector General

• Roxanne Caruso, Acting Inspector General, Office of Inspector General, Legal Services Corporation

5. Management Update Regarding Risk Management

• Will Gunn, Vice President for Legal Affairs & General Counsel, Legal Services Corporation

6. Briefing on Real Estate Purchases and Improvements Made by LSC Grantees

• Mark Freedman, Senior Associate General Counsel, Office of Legal Affairs, Legal Services Corporation

• Megan Lacchini, Deputy Director for General Compliance, Office of Compliance and Enforcement, Legal Services Corporation

• Lora Rath, Director, Office of Compliance and Enforcement, Legal Services Corporation

7. Briefing on Management/Office of Inspector General Relations

• Ron Flagg, President, Legal Services Corporation

• Roxanne Caruso, Acting Inspector General, Office of the Inspector General, Legal Services Corporation

8. Briefing About Follow-Up by the Office of Compliance and Enforcement on Referrals by the Office of Inspector General Regarding Audit Reports and Annual Financial Statement Audits of Grantees

• Lora Rath, Director, Office of Compliance and Enforcement, Legal Services Corporation

• Roxanne Caruso, Acting Inspector General, Office of the Inspector General, Legal Services Corporation

9. Briefing on the 403(b) Audit Report

• Debbie Moore, Chief Financial Officer & Treasurer, Legal Services Corporation

10. Public Comment

11. Consider and Act on Other Business

12. Consider and Act on Motion to Adjourn the Open Session Meeting and Proceed to a Closed Session

Closed Session

1. Approval of Minutes of Committee's Closed Session Meeting on April 4, 2022

2. Approval of Minutes of the Combined Audit and Finance Committee's Closed Session Meeting on April 4, 2022

3. Briefing Pursuant to Section VIII(C)(1) of the Committee Charter, Regarding LSC's Systems of Internal Controls that Are Designed to Minimize the Risk of Fraud, Theft, Corruption, or Misuse of Funds

• Debbie Moore, Chief Financial Officer & Treasurer, Legal Services Corporation

4. Consider and Act on Motion to Adjourn the Meeting

Delivery of Legal Services Commmittee Meeting

Open Session

1. Approval of Agenda

2. Approval of Minutes of the Committee's Open Session Meeting on April 4, 2022

3. LSC Performance Criteria Revisions Update

• Lynn Jennings, Vice President for Grants Management, Legal Services Corporation

• Joyce McGee, Director, Office of Program Performance, Legal Services Corporation

4. Panel Discussion: The Impact of the Pandemic on Consumer Law Cases

• Hadassa Santini Colberg, Executive Director, Puerto Rico Legal Services, Inc.

• Michael Forton, Director of Advocacy, Legal Services Alabama

• Ashley E. Lowe, CEO, Lakeshore Legal Aid (MI)

• Johnnie Larrie, Managing Attorney, Consumer Practice Group and Economic Justice Initiative, Legal Aid of North Carolina, Inc.

• Moderator: James Scruggs, Deputy Director, Office of Program Performance, Legal Services Corporation

5. Public Comment

6. Consider and Act on Other Business

7. Consider and Act on a Motion to Adjourn the Meeting

Meeting of the Communications Subcommittee of the IAC

Open Session

1. Approval of Agenda

2. Approval of Minutes of the Subcommittee's Open Session Meeting on April 5, 2022

3. Communications and Social Media Update

• Carl Rauscher, Director of Communications and Media Relations, Legal Services Corporation

4. Public Comment

5. Consider and Act on Other Business

6. Consider and Act on Motion to Adjourn the Meeting

Finance Committee Meeting

Open Session

1. Approval of Agenda

2. Approval of the Minutes of the Combined Audit and Finance Committee's Open Session Meeting on April 4, 2022

3. Approval of the Minutes of the Combined Audit and Finance Committee's Closed Session Meeting on April 4, 2022

4. Presentation of LSC's Financial Report for the First Eight Months of Fiscal Year 2022 (Period Ending May 31, 2022)

• Debbie Moore, Chief Financial Officer & Treasurer, Legal Services Corporation

5. Report on the Fiscal Year 2023 Appropriations Process and Supplemental Appropriations

• Carol Bergman, Vice President, Government Relations & Public Affairs, Legal Services Corporation

6. Consider and Act on Resolution #2022-XXX, Fiscal Year 2023 Temporary Operating Authority

7. Consider and Act on Resolution #2022-XXX, Adopting LSC's Fiscal Appropriation Request for Fiscal Year 2024

8. Public Comment

9. Consider and Act on Other Business

10. Consider and Act on Motion to Adjourn the Meeting

Board of Directors

Open Session

1. Pledge of Allegiance

2. Approval of Agenda

3. Approval of Minutes of the Board's Open Session Meeting on May 23, 2022

4. Chairman's Report

5. Members' Reports

6. President's Report

• Update from LSC's Office of Data Governance and Analysis

7. Inspector General's Report

• Fraud Awareness Presentation

8. Consider and Act on the Report of the Operations and Regulations Committee, following its June 30, 2022, Videoconference Meeting

9. Consider and Act on the Report of the Governance and Performance Review Committee, following its July 1, 2022, Videoconference Meeting

10. Consider and Act on the Report of the Institutional Advancement Committee

11. Consider and Act on the Report of the Audit Committee

12. Consider and Act on the Report of the Delivery of Legal Services Committee

13. Consider and Act on the Report of the Finance Committee

14. Public Comment

15. Consider and Act on Other Business

16. Consider and Act on Whether to Authorize a Closed Session of the Board to Address Items Listed Below

Closed Session

1. Approval of Minutes of the Board's Closed Session Meeting on April 5, 2022

2. Management Briefing

3. Inspector General Briefing

4. Consider and Act on General Counsel's Report on Potential and Pending Litigation Involving Legal Services Corporation

5. Consider and Act on List of Prospective Leaders Council and Emerging Council Invitees

6. Consider and Act on Motion to Adjourn the Meeting

CONTACT PERSON FOR MORE INFORMATION: Kaitlin Brown, Executive and Board Project Coordinator, at (202) 295-1555. Questions may also be sent by electronic mail to brownk@lsc.gov.

Non-Confidential Meeting Materials: Non-confidential meeting materials will be made available in electronic format at least 24 hours in advance of the meeting on the LSC website, at https://www.lsc.gov/about-lsc/board-meeting-materials.

Dated: June 30, 2022.
Kaitlin D. Brown,
Executive and Board Project Coordinator, Legal Services Corporation.

[FR Doc. 2022-14406 Filed 7-1-22; 11:15 am]

BILLING CODE 7050-01-P